DEPARTMENT OF TRANSPORTATION

Federal Aviation Administration

Public Notice for Waiver of Aeronautical Land-Use Assurance

AGENCY: Federal Aviation Administration (FAA), DOT.

ACTION: Notice of intent of waiver with respect to land; Burnett County Airport, Siren WI.

SUMMARY: The FAA is considering a proposal to change 24.19 acres of airport land from aeronautical use to non-aeronautical use of airport property located at Burnett County Airport, Siren WI. The aforementioned land is not needed for aeronautical use.

The Gandy Dancer Trail is a large recreational trail system in Western Wisconsin. A portion of the trail ran across the approach area to the runway at the Burnett County Airport. This section of the trail was relocated away from the runway to follow the west edge of airport property. The old trail was converted to airport use.

DATES: Comments must be received on or before January 8, 2014.

ADDRESSES: Documents are available for review by appointment at the FAA Airports District Office, Sandra DePottey, Program Manager, 6020 28th Ave South, Room 102, Minneapolis MN 55450, Telephone: (612) 253-4610/Fax: (612) 253-4611 and Burnett County Government Center, 7410 County Road K, Siren, WI 54872.

Written comments on the Sponsor's request must be delivered or mailed to: Sandra DePottey, Program Manager, Federal Aviation Administration, Airports District Office, 6020 28th Ave. South, Room 102, Minneapolis MN 55450, Telephone Number: (612) 253-4610/FAX Number: (612) 253-4611.

FOR FURTHER INFORMATION CONTACT: Sandra DePottey, Program Manager, Federal Aviation Administration, Airports District Office, 6020 28th Ave South Room 102, Minneapolis MN 55450. Telephone Number: (612) 253-4610/FAX Number: (612) 253-4611.

SUPPLEMENTARY INFORMATION: In accordance with section 47107(h) of Title 49, United States Code, this notice is required to be published in the Federal Register 30 days before modifying the land-use assurance that requires the property to be used for an aeronautical purpose.

The airport property for the relocated trail was originally acquired with State and local funds. The sponsor has received FMV for the property in the form of a land swap. There are no impacts to the airport by allowing the airport to dispose of the property. The land will continue to be used by the Wisconsin Department of Natural Resources (WiDNR) for a recreational trail.

The disposition of proceeds from the sale of the airport property will be in accordance with FAA's Policy and Procedures Concerning the Use of Airport Revenue, published in the Federal Register on February 16, 1999 (64 FR 7696).

This notice announces that the FAA is considering the release of the subject airport property at the Burnett County Airport, Siren, Wisconsin from federal land covenants, subject to a reservation for continuing right of flight as well as restrictions on the released property as required in FAA Order 5190.6B section 22.16. Approval does not constitute a commitment by the FAA to financially assist in the disposal of the subject airport property nor a determination of eligibility for grant-in-aid funding from the FAA.

A PART OF THE NORTHWEST QUARTER AND THE SOUTHWEST QUARTER OF SECTION 32, TOWNSHIP 39 NORTH, RANGE 16 WEST, TOWN OF MEENON, BURNETT COUNTY, WISCONSIN

Issued in Minneapolis Minnesota, on October 31, 2013.
Chris Hugunin,
Manager, Minneapolis Airports District Office, FAA, Great Lakes Region.

[FR Doc. 2013-29244 Filed 12-6-13; 8:45 am]

BILLING CODE 4910-13-P